PEACE CORPS

Information Collection Request; Submission for OMB Review

AGENCY: Peace Corps.

ACTION: Notice; correction.

SUMMARY: The Peace Corps published a document in the Federal Register of August 28, 2013, [FR Doc. 2013-20927, pages 53173-53174], concerning request for comments on an information collection. This document corrects the contact information listed in that notice.

FOR FURTHER INFORMATION CONTACT: Denora Miller at 202-692-1236.

Correction

On page 53174, first column, correct the ADDRESSES caption to read:

ADDRESSES: Interested persons are invited to submit comments regarding this proposal. Comments should refer to the proposal by name/or OMB approval number and should be sent via email to: oira_submission@omb.eop.gov or fax to: 202-395-3086. Attention: Desk Officer for Peace Corps.

On page 53174, first column, correct the FOR FURTHER INFORMATION CONTACT caption to read:

FOR FURTHER INFORMATION CONTACT: Denora Miller, FOIA Officer, Peace Corps, 1111 20th Street NW., Washington, DC 20526, (202) 692-1236, or email at pcfr@peacecorps.gov. Copies of available documents submitted to OMB may be obtained from Denora Miller.

This notice issued in Washington, DC, on August 29, 2013.
Garry W. Stanberry,
Deputy Associate Director, Management.

[FR Doc. 2013-21634 Filed 9-4-13; 8:45 am]

BILLING CODE 6051-01-P